DEPARTMENT OF COMMERCE

National Oceanic and Atmospheric Administration

RIN 0648-XA750

Pacific Fishery Management Council; Public Meeting

AGENCY: National Marine Fisheries Service (NMFS), National Oceanic and Atmospheric Administration (NOAA), Commerce.

ACTION: Notice of public meeting (conference call).

SUMMARY: The Pacific Fishery Management Council (Pacific Council) Trawl Rationalization Regulatory Review Committee (TRREC) will convene a meeting that is open to the public.

ADDRESSES: The meeting will be held at the Embassy Suites Portland Airport, 7900 NE. 82nd Avenue, Portland, OR 97220; telephone: (503) 460-3000.

DATES: The meeting will be held Thursday, October 27, from 8 a.m. until business for the day is completed.

FOR FURTHER INFORMATION CONTACT: Jim Seger, Staff Officer; telephone: (503) 820-2280.

SUPPLEMENTARY INFORMATION: The primary purpose of the meeting is to review regulations (a) making it permissible to stack both a limited entry trawl and fixed gear permit on a single vessel at the same time, (b) modifying the season opening date for whiting, (c) allowing vessels to carry multiple gears at the same time, and (d) modification of several identified trawl gear regulations that impair increased efficiency and selectivity. As a secondary priority, the TRREC may focus on other regulations made obsolete by implementation of the new trawl rationalization program in 2011.

Although non-emergency issues not contained in the meeting agenda may come before the TRREC for discussion, those issues may not be the subject of formal action during this meeting. TRREC action will be restricted to those issues specifically listed in this notice and any issues arising after publication of this notice that require emergency action under Section 305(c) of the Magnuson-Stevens Fishery Conservation and Management Act, provided the public has been notified of the TRREC intent to take final action to address the emergency.

Special Accommodations

This meeting is accessible to people with disabilities. Requests for sign language interpretation or other auxiliary aids should be directed to Mr. Kris Kleinschmidt at (503) 820-2280 at least 5 days prior to the meeting date.

Dated: October 3, 2011.
Tracey L. Thompson,
Acting Director, Office of Sustainable Fisheries, National Marine Fisheries Service.

[FR Doc. 2011-25935 Filed 10-6-11; 8:45 am]

BILLING CODE 3510-22-P